DEPARTMENT OF AGRICULTURE

Agricultural Marketing Service

7 CFR Part 923

[Doc. No. AMS-SC-23-0055]

Sweet Cherries Grown in Designated Counties in Washington; Continuance Referendum

AGENCY: Agricultural Marketing Service. United States Department of Agriculture.

ACTION: Referendum order.

SUMMARY: This document directs that a referendum be conducted among eligible Washington sweet cherry growers to determine whether they favor continuance of the marketing order regulating the handling of sweet cherries grown in designated counties in Washington.

DATES: The referendum will be conducted from February 5 through February 26, 2024. Only current sweet cherry growers that also grew sweet cherries within the designated production area during the period April 1, 2022, through March 31, 2023, are eligible to vote in this referendum. Ballots returned via express mail must show proof of delivery by no later than 11:59 p.m. Eastern Time on February 26, 2024, to be counted.

ADDRESSES: Copies of the marketing order may be obtained from the office of the referendum agents at 1220 SW 3rd Avenue, Suite 305, Portland, Oregon 97212; Telephone: (503) 326-2724; or the Office of the Docket Clerk, Market Development Division, Specialty Crops Program, AMS, USDA, 1400 Independence Avenue SW, STOP 0237, Washington, DC 20250-0237; Telephone: (202) 720-8085; or on the internet https://www.regulations.gov.

FOR FURTHER INFORMATION CONTACT: Virginia Tjemsland, Marketing Specialist, or Barry Broadbent, Senior Marketing Specialist, West Region Branch, Market Development Division, Specialty Crops Program, AMS, USDA, 1220 SW 3rd Avenue, Suite 305, Portland, Oregon 97212; Telephone: (503) 326-2724, or email: virginia.l.tjemsland@usda.gov or barry.broadbent@usda.gov.

SUPPLEMENTARY INFORMATION: Pursuant to Marketing Order No. 923, as amended (7 CFR part 923), hereinafter referred to as the “Order,” and the applicable provisions of the Agricultural Marketing Agreement Act of 1937, as amended (7 U.S.C. 601-674), hereinafter referred to as the “Act,” it is hereby directed that a referendum be conducted to determine whether continuance of the Order is favored by Washington sweet cherry growers. The referendum shall be conducted from February 5 to February 26, 2024, among eligible sweet cherry growers in the production area. Only current sweet cherry growers that were also engaged in the production of sweet cherries during the period of April 1, 2022, through March 31, 2023, may participate in the continuance referendum.

USDA has determined that continuance referenda are an effective means for determining whether growers favor continuation of marketing order programs. USDA would consider termination of the Order if less than two-thirds of growers voting in the referendum, or growers of less than two-thirds of the volume of Washington sweet cherries represented in the referendum, favor continuance. In evaluating the merits of continuation versus termination, USDA will not exclusively consider the results of the continuance referendum. USDA will also consider all other relevant information concerning the operation of the Order and the relative benefits and costs to growers, handlers, and consumers to determine whether continued operation of the Order would tend to effectuate the declared policy of the Act.

In accordance with the Paperwork Reduction Act of 1995 (44 U.S.C. chapter 35), the ballot materials used in the referendum have been approved by the Office of Management and Budget (OMB) and have been assigned OMB No. 0581-0189, Fruit Crops. It has been estimated that it will take an average of 20 minutes for each of the approximately 1,350 Washington sweet cherry growers to cast a ballot. Participation is voluntary. Ballots postmarked after February 26, 2024, will not be included in the vote tabulation.

Virginia Tjemsland and Barry Broadbent of the West Region Branch, Market Development Division, Specialty Crops Program, AMS, USDA, are hereby designated as the referendum agents of the Secretary of Agriculture to conduct this referendum. The procedure applicable to the referendum shall be the “Procedure for the Conduct of Referenda in Connection with Marketing Orders for Fruits, Vegetables, and Nuts Pursuant to the Agricultural Marketing Agreement Act of 1937, as Amended” (7 CFR 900.400 et seq.).

Ballots will be mailed to all Washington sweet cherry growers of record and may also be obtained from the referendum agents or their appointees.

List of Subjects in 7 CFR Part 923

Cherries, Fruits, Marketing agreements, Reporting and recordkeeping requirements.

(Authority: 7 U.S.C. 601-674.)

Erin Morris,
Associate Administrator, Agricultural Marketing Service.

[FR Doc. 2023-26964 Filed 12-7-23; 8:45 am]

BILLING CODE P